DEPARTMENT OF TRANSPORTATION

Office of the Secretary

[DOT-OST-2023-0137]

Advisory Committee on Transportation Equity (ACTE); Notice of Public Meeting

AGENCY: Office of the Secretary, Department of Transportation.

ACTION: Notice of public meeting.

SUMMARY: DOT OST announces a meeting of ACTE, which will take place via Zoom Webinar.

DATES: The meeting will be held Friday, March 1, 2024, from 2:30 to 4:30 p.m. Eastern Time. Requests for accommodations because of a disability must be received by Friday, February 23. Requests to submit questions must be received no later than Friday, February 23. The registration form will close on Thursday, February 29.

ADDRESSES: The meeting will be held via Zoom. Those members of the public who would like to participate virtually should go to https://www.transportation.gov/mission/civil-rights/advisory-committee-transportation-equity-meetings-materials to access the meeting, a detailed agenda for the entire meeting, meeting minutes, and additional information on ACTE and its activities.

FOR FURTHER INFORMATION CONTACT: Sandra D. Norman, Senior Advisor and Designated Federal Officer, Departmental Office of Civil Rights, U.S. Department of Transportation, 1200 New Jersey Avenue SE, Washington, DC 20590, (804) 836-2893, ACTE@dot.gov. Any ACTE-related request or submissions should be sent via email to the point of contact listed above.

SUPPLEMENTARY INFORMATION:

Background

Purpose of the Committee

ACTE was established to provide independent advice and recommendations to the Secretary of Transportation about comprehensive, interdisciplinary issues related to civil rights and transportation equity in the planning, design, research, policy, and advocacy contexts from a variety of transportation equity practitioners and community leaders. Specifically, the Committee will provide advice and recommendations to inform the Department's efforts to:

Implement the Agency's Equity Action Plan and Strategic Plan, helping to institutionalize equity into Agency programs, policies, regulations, and activities;

Strengthen and establish partnerships with overburdened and underserved communities who have been historically underrepresented in the Department's outreach and engagement, including those in rural and urban areas;

Empower communities to have a meaningful voice in local and regional transportation decisions; and

Ensure the compliance of Federal funding recipients with civil rights laws and nondiscrimination programs, policies, regulations, and activities.

Meeting Agenda

The agenda for the meeting will consist of:

Welcome and Opening remarks

ACTE Community Check-In

U.S. Department of Transportation updates

ACTE Research Report Findings

Upcoming ACTE Meetings

Closing remarks and Next Steps

Meeting Participation

Advance registration is required. Please register at https://usdot.zoomgov.com/webinar/register/WN_UvxaMcB4QfWzvjChzd9yIQ by the deadline referenced in the DATES section. The meeting will be open to the public for its entirety. The U.S. Department of Transportation is committed to providing equal access to this meeting for all participants. If you need alternative formats or services because of a disability, such as sign language, interpretation, or other ancillary aids, please contact the point of contact listed in the FOR FURTHER INFORMATION CONTACT section. Questions from the public will be answered during the public comment period only at the discretion of the ACTE chair, vice chair, and designated Federal officer. Members of the public may submit written comments and questions to the point of contact listed in the FOR FURTHER INFORMATION CONTACT section on the topics to be considered during the meeting by the deadline referenced in the DATES section.

Dated: February 9, 2024.
Irene Marion,
Director, Departmental Office of Civil Rights.

[FR Doc. 2024-03310 Filed 2-15-24; 8:45 am]

BILLING CODE 4910-9X-P